DEPARTMENT OF DEFENSE

Office of the Secretary

Submission for OMB Review; Comment Request

ACTION: Notice,

The Department of Defense has submitted to OMB for clearance, the following proposal for collection of information under the provisions of the Paperwork Reduction Act (44 U.S.C. chapter 35).

DATES: Consideration will be given to all comments received by August 7, 2003.

Title, Form, and OMB Number: USAF Museum System Volunteer Application/Registration; AF Form 3569; OMB Number 0701-0127.

Type of Request: Revision.

Number of Respondents: 255.

Responses Per Respondent: 1.

Annual Responses: 255.

Average Burden Per Response: 15 minutes.

Annual Burden Hours: 64.

Needs and Uses: The information collection is necessary to provide: (a) The general public an instrument to interface with the United States Air Force Museum System Volunteer Program; (b) the United States Air Force Museum System the means with which to select respondents pursuant to the USAF Museum System Volunteer Program. The primary uses of the information collection include the evaluation and placement of respondents within the USAF Museum System Volunteer Program.

Affected Public: Individuals or Households.

Frequency: On Occasion.

Respondent's Obligation: Required to Obtain or Retain Benefits.

OMB Desk Officer: Ms. Jacqueline Zeiher.

Written comments and recommendations on the proposed information collection should be sent to Ms. Zeiher at the Office of Management and Budget, Desk Officer for DoD, Room 10236, New Executive Office Building, Washington, DC 20503.

Dod Clearance Officer: Mr. Robert Cushing.

Written requests for copies of the information collection proposal should be sent to Mr. Cushing, WHS/DIOR, 1215 Jefferson Davis Highway, Suite 1204, Arlington, VA 22202-4302.

Dated: June 30, 2003.
Patricia L. Toppings,
Alternate OSD Federal Register Liaison Officer, Department of Defense.

[FR Doc. 03-17131 Filed 7-7-03; 8:45 am]

BILLING CODE 5001-08-M